RAILROAD RETIREMENT BOARD

20 CFR Part 367

RIN 3220-AB66

Recovery of Debts Owed to the United States Government by Administrative Offset

AGENCY: Railroad Retirement Board.

ACTION: Final rule.

SUMMARY: The Railroad Retirement Board (Board) amends its regulations by changing from 180 days delinquent to 120 days delinquent debts that are referred to Treasury in compliance with the DATA Act.

DATES: This rule will be effective May 16, 2016.

ADDRESSES: Martha P. Rico, Secretary to the Board, Railroad Retirement Board, 844 N. Rush Street, Chicago, Illinois 60611-2092.

FOR FURTHER INFORMATION CONTACT: Marguerite P. Dadabo, Assistant General Counsel, (312) 751-4945, TTD (312) 751-4701.

SUPPLEMENTARY INFORMATION: The Railroad Retirement Board (Board) amends part 367 of the Board's regulations, Recovery of Debts Owed to the United States Government by Administrative Offset. Specifically, the Board amends section 367.3(a), Board Responsibilities. Section 367.3(a) states that all nontax debts over 180 days delinquent shall be referred to the Department of the Treasury for administrative offset through the Treasury Offset Program as required by 31 U.S.C. 3716. 31 U.S.C. 3716 was amended by the Digital Accountability and Transparency Act (DATA Act), Public Law 113-101. The DATA Act now requires agencies to refer to the Department of the Treasury valid, delinquent nontax debts for the purpose of administrative offset at 120 days. The amendment to section 367.3(a) of the Board's regulation changes from 180 days to 120 days the debts referred to the Department of the Treasury in compliance with the DATA Act.

A proposed rule was published in the Federal Register on January 21, 2015, and comments were invited (80 FR 2839). No comments were received. The final rule makes no changes from the proposed rule.

The Board, with the concurrence of the Office of Management and Budget, has determined that this is not a significant regulatory action under Executive Order 12866, as amended. Therefore, no regulatory impact analysis is required. There are no changes to the information collections associated with Part 367.

List of Subjects in 20 CFR Part 367

Debts, Railroad employees, Railroad retirement.

For the reasons set out in the preamble, the Railroad Retirement Board amends title 20, chapter II, subchapter F, part 367 of the Code of Federal Regulations as follows:

PART 367—RECOVERY OF DEBTS OWED TO THE UNITED STATES GOVERNMENT BY ADMINISTRATIVE OFFSET

1. The authority citation for part 367 continues to read as follows:

Authority: 45 U.S.C. 231f(b)(5); 31 U.S.C. 3716

§ 367.3 [Amended]

2. Amend § 367.3 by removing “180” and adding in its place “120” where it appears in paragraph (a).

Dated: May 11, 2016.
By Authority of the Board.
Martha P. Rico,
Secretary to the Board.

[FR Doc. 2016-11445 Filed 5-13-16; 8:45 am]

BILLING CODE 7905-01-P